DEPARTMENT OF HEALTH AND HUMAN SERVICES

Centers for Disease Control and Prevention

[60Day-19-19BHC; Docket No. CDC-19-0055]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled EVALUATION OF THE DP18-1815 COOPERATIVE AGREEMENT PROGRAM: IMPROVING THE HEALTH OF AMERICANS THROUGH PREVENTION AND MANAGEMENT OF DIABETES AND HEART DISEASE AND STROKE. The purpose of data collection is to determine CDC-funded recipients' progress towards using DP18-1815 funds to implement evidence-based strategies, and to determine how those efforts are contributing to state level and health system level changes to support prevention and management of diabetes and heart disease.

DATES: CDC must receive written comments on or before September 3, 2019.

ADDRESSES: You may submit comments, identified by Docket No. CDC-2019-0055 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the DP18-1815 Cooperative Agreement Program: Improving the Health of Americans Through Prevention and Management of Diabetes and Heart Disease and Stroke—New—National Center for Chronic Disease Prevention and Health Promotion, Centers for Disease Control and Prevention (CDC).

Background and Brief Description

The Centers for Disease Control and Prevention (CDC) Division of Diabetes Translation (DDT) and Division for Heart Disease and Stroke Prevention (DHDSP) are submitting this new three year information collection request (ICR) for an evaluation of the recently launched five-year Cooperative Agreement program CDC-RFA-DP18-1815PPHF18: Improving the Health of Americans Through Prevention and Management of Diabetes and Heart Disease and Stroke, hereafter referred to as “1815”. This cooperative agreement funds all 50 State Health Departments and the Washington, DC health department (hereafter referred to as “HD recipients”) to support investments in implementing evidence-based strategies to prevent and manage cardiovascular disease (CVD) and diabetes in high-burden populations/communities within each state and the District of Columbia. High burden populations/communities are those affected disproportionately by high blood pressure, high blood cholesterol, diabetes, or prediabetes due to socioeconomic or other characteristics, including access to care, poor quality of care, or low income. The 1815 program is a collaboration between DDT and DHDSP and is structured into two program categories aligning with each Division: Category A focuses on diabetes management and Type 2 diabetes prevention; Category B focuses on CVD prevention and management.

This cooperative agreement is a substantial investment of federal funds. DDT and DHDSP are responsible for the stewardship of these funds, and they must be able to demonstrate the types of interventions being implemented and what is being accomplished through the use of these funds. Thus, throughout the five-year cooperative agreement period, CDC will work with HD recipients to track the implementation of the cooperative agreement strategies and evaluate program processes and outcomes. In order to collect this information, CDC has designed four overarching components: (1) Category A rapid evaluation of DSMES and National DPP partner sites, (2) Category B case studies, (3) Category B cost study, and (4) Category A and B recipient-led evaluations. Each component consists of data collection mechanisms and tools that are designed to capture the most relevant information needed to inform the evaluation effort while placing minimum burden on respondents. Respondents will include HD recipients, as well as select HD recipient partner sites, which are organizations that HD recipients are partnering with in the implementation of the 1815 strategies.

The evaluation of cooperative agreement strategies and activities conducted by DDT and DHDSP will determine the efficiency, effectiveness, impact and sustainability of 1815-funded strategies in the promotion, prevention, and management of diabetes and heart disease and help identify promising practices that can be replicated and scaled to better improve health outcomes. In addition, evaluation plays a critical role in organizational learning, program planning, decision-making, and measurement of the 1815 strategies. As an action-oriented process, the evaluation will serve to identify programs that have positive outcomes, identify those that may need additional technical assistance support, and highlight the specific activities that make the biggest contribution to improving diabetes and cardiovascular disease prevention and management efforts. Without collection of new evaluative data, CDC will not be able to capture critical information needed to continuously improve programmatic efforts and clearly demonstrate the use of federal funds.

Estimated Annualized Burden Hours
Type of respondents | Form name | Number of respondents | Number of responses per respondent | Average burden per response | Total burden (in hours)
Category A Site-Level Rapid Evaluation
HD recipient staff | National DPP Partner Site-Level Rapid Evaluation Site Nomination Form | 51 | 1 | 30/60 | 8.5
HD recipient staff | DSMES Partner Site-Level Rapid Evaluation Site Nomination Form | 51 | 1 | 30/60 | 8.5
DSMES partner site staff | DSMES Rapid Evaluation Interview Guide—Program/Quality Coordinator | 14 | 1 | 2 | 28
DSMES partner site staff | DSMES Rapid Evaluation Interview Guide—Paraprofessional | 28 | 1 | 2 | 56
DSMES partner site staff | DSMES Rapid Evaluation Interview Guide—Health Professional | 28 | 1 | 2 | 56
DSMES partner site staff | DSMES Rapid Evaluation Survey Questionnaire | 510 | 1 | 1 | 340
National DPP partner site staff | National DPP Rapid Evaluation Interview Guide—Program Coordinator | 14 | 1 | 2 | 28
National DPP partner site staff | National DPP Rapid Evaluation Interview Guide—Lifestyle Coach | 28 | 1 | 2 | 56
National DPP partner site staff | National DPP Rapid Evaluation Survey Questionnaire | 510 | 1 | 1 | 340
Category B Case Study—Site-Level Interviews
Partner site staff | CQM Partner Site-Level Interview Guide | 45 | 1 | 1.5 | 22.5
Partner site staff | TBC Partner Site-Level Interview Guide | 24 | 1 | 1.5 | 12
Partner site staff | MTM Partner Site-Level Interview Guide | 21 | 1 | 1.5 | 10.5
Partner site staff | CCL Partner Site-Level Interview Guide | 45 | 1 | 1.5 | 22.5
Category B Case Study—SHD-Level Interview
HD recipient staff | CQM HD Recipient Interview Guide | 25 | 1 | 2 | 33.5
HD recipient staff | TBC HD Recipient Interview Guide | 13 | 1 | 2 | 17.5
HD recipient staff | MTM HD Recipient Interview Guide | 12 | 1 | 2 | 16
HD recipient staff | CCL HD Recipient Interview Guide | 25 | 1 | 2 | 33.5
Category B Case Study SHD-Level Group Discussion Guide
HD recipient staff | CQM HD Recipient Group Discussion Guide | 40 | 1 | 2.5 | 67
HD recipient staff | TBC HD Recipient Group Discussion Guide | 40 | 1 | 2.5 | 67
HD recipient staff | CCL HD Recipient Group Discussion Guide | 40 | 1 | 2.5 | 67
Category B Cost Study
HD recipient staff | HD Recipient Resource Use and Cost Inventory Tool (Category B) | 25 | 1 | 2.5 | 21
Partner site staff | Partner Site-Level Resource Use and Cost Inventory Tool (Category B) | 50 | 1 | 2.5 | 42
Recipient-Led Evaluation Report Templates
HD recipient staff | Category A EPMP Template | 51 | 1 | 8 | 136
HD recipient staff | Category A—DDT Recipient-led Annual Evaluation Report Template(s) | 51 | 1 | 8 | 408
HD recipient staff | Category B—DHDSP Recipient-led Evaluation Reporting Deliverable Template(s) | 51 | 1 | 8 | 408
Total |  | 1,792 |  |  | 2,303

Jeffrey M. Zirger,
Lead, Information Collection Review Office, Office of Scientific Integrity, Office of Science, Centers for Disease Control and Prevention.

[FR Doc. 2019-14301 Filed 7-3-19; 8:45 am]

BILLING CODE 4163-18-P